DEPARTMENT OF HEALTH AND HUMAN SERVICES

Centers for Medicare & Medicaid Services

[Document Identifier: CMS-R-138, CMS-339, CMS-1450]

Agency Information Collection Activities: Submission for OMB Review; Comment Request

AGENCY: Centers for Medicare & Medicaid Services.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Extension of a currently approved collection; Title of Information Collection: Medicare Geographic Classification Review Board (MGCRB) Procedures and Supporting Regulations in 42 CFR 412.256 and 412.230; Form Nos.: CMS-R-138 (OMB # 0938-0573); Use: Section 1886(d)(10) of the Social Security Act established the Medicare Geographic Classification Review Board (MGCRB), an entity with the authority to accept short-term hospital inpatient prospective payment system applications from hospitals requesting geographic reclassification for wage index or standardized payment amounts and to issue decisions on these requests. This regulation sets up the application process for prospective payment system hospitals that choose to appeal their geographic status to the MGCRB. This regulation also establishes procedural guidelines for the MGCRB; Frequency: Reporting—Annually; Affected Public: Business or other for-profit, Not-for-profit institutions; Number of Respondents: 500; Total Annual Responses: 500; Total Annual Hours: 500.

2. Type of Information Collection Request: Revision of a currently approved collection; Title of Information Collection: Medicare Provider Cost Report Reimbursement Questionnaire and Supporting Regulations in 42 CFR 413.20, 413.24, and 415.60; Form Nos.: CMS-339 (OMB # 0938-0301); Use: The purpose of Form CMS-339 is to assist the provider in preparing an acceptable cost report and to minimize subsequent contact between the provider and its intermediary. Form CMS-339 provides the basic data necessary to support the information in the cost report. This includes information the provider uses to develop the provider and professional components of physician compensation so that compensation can be properly allocated between the Part A and the Part B trust funds. CMS is currently working on eliminating Form CMS-339 and including the applicable questions on the individual cost report forms. Because of the time required to include the applicable questions in each of the individual cost reports, CMS is revising the currently approved information collection; Frequency: Annually; Affected Public: Business or other for-profit, not-for-profit institutions, State, Local or Tribal Governments; Number of Respondents: 35,904; Total Annual Responses: 35,904; Total Annual Hours: 618,210.

3. Type of Information Collection Request: Extension of a currently approved collection; Title of Information Collection: Medicare Uniform Institutional Provider Bill and Supporting Regulations in 42 CFR 424.5; Form No.: CMS-1450 (OMB #0938-0279); Use: Section 42 CFR 424.5(a)(5) requires providers of services to submit claims prior to Medicare reimbursement. Charges are coded by revenue codes. The bill specifies diagnoses according to the International Classification of Diseases, Ninth Edition (ICD-9-CM) codes. Inpatient procedures are identified by ICD-9-CM codes, and outpatient procedures are described using the Healthcare Common Procedure Coding System (HCPCS). These are standard systems of identification for all major health insurance claims payers. Submission of information on the CMS-1450 permits Medicare intermediaries to receive consistent data for proper payment; Frequency: On occasion; Affected Public: Not-for-profit institutions, business or other for profit; Number of Respondents: 51,629; Total Annual Responses: 174,461,278; Total Annual Hours: 1,997,581.

To obtain copies of the supporting statement and any related forms for these paperwork collections referenced above, access CMS Web site address at http://www.cms.hhs.gov/regulations/pra/, or E-mail your request, including your address, phone number, OMB number, and CMS document identifier, to Paperwork@cms.hhs.gov, or call the Reports Clearance Office on (410) 786-1326.

To be assured consideration, comments and recommendations for the proposed information collections must be received by the OMB Desk Officer at the address below, no later than 5 p.m. on October 17, 2005. OMB Human Resources and Housing Branch, Attention: Christopher Martin, New Executive Office Building, Room 10235, Washington, DC 20503.

Dated: September 1, 2005.
Michelle Shortt,
Director, Regulations Development Group, Office of Strategic Operations and Regulatory Affairs.

[FR Doc. 05-18052 Filed 9-15-05; 8:45 am]

BILLING CODE 4120-01-P